DEPARTMENT OF COMMERCE

National Oceanic and Atmospheric Administration

[Docket No. 071018607-7707-02]

NOAA Cooperative Institutes (CIs): (1) Alaska and Related Arctic Regions Environmental Research and (2) Earth System Modeling for Climate Applications

AGENCY: Office of Oceanic and Atmospheric Research, National Oceanic and Atmospheric Administration (NOAA), Department of Commerce.

ACTION:

Notice; Correction.

SUMMARY: On October 24, 2007, the Office of Oceanic and Atmospheric Research (OAR) published a notice of availability of funds to establish two new NOAA cooperative institutes (CIs): (1) Alaska and Related Arctic Regions Environmental Research and (2) Earth System Modeling for Climate Applications (72, FR 60317). That notice contained a typographical error in the discussion under the heading “Earth System Modeling for Climate Applications CI.” This notice corrects the error.

FOR FURTHER INFORMATION CONTACT: Dr. John Cortinas, 1315 East West Highway, Room 11326, Silver Spring, Maryland 20910; telephone 301-734-1090. Facsimile: (301) 713-3515; e-mail: John.Cortinas@noaa.gov.

SUPPLEMENTARY INFORMATION:

Correction

The sixth sentence of the section entitled, “Earth System Modeling for Climate Applications CI” contained a typographical error. The sentence, “The proposed Alaska CI should possess outstanding capabilities to provide research under three themes: (1) Earth system modeling and analysis, (2) data assimilation, and (3) earth system modeling applications” is corrected to read, “The proposed Earth System Modeling CI should possess outstanding capabilities to provide research under three themes: (1) Earth system modeling and analysis, (2) data assimilation, and (3) earth system modeling applications.”

All other requirements and information listed in the original notice remain the same.

Classification: Pre-Award Notification Requirements for Grants and Cooperative Agreements.

The Department of Commerce Pre-Award Notification Requirements for Grants and Cooperative Agreements contained in the Federal Register notice of December 30, 2004 (69 FR 78389) are applicable to this solicitation.

Limitation of Liability

Funding for years 2-5 of the Cooperative Institute is contingent upon the availability of appropriated funds. In no event will NOAA or the Department of Commerce be responsible for application preparation costs if these programs fail to receive funding or are cancelled because of other agency priorities. Publication of this announcement does not oblige NOAA to award any specific project or to obligate any available funds.

Paperwork Reduction Act

This notification involves collection of information requirements subject to the Paperwork Reduction Act. The use of Standard Forms 424, 424A, 424B, and SF-LLL and CD-346 has been approved by the Office of Management and Budget (OMB) respectively under control numbers 0348-0043, 0348-0044, 0348-0040, and 0348-0046 and 0605-0001. Notwithstanding any other provision of law, no person is required for failure to comply with, a collection of information subject to the requirements of the PRA unless that collection of information displays a currently valid OMB Control Number.

Executive Order 12866

It has been determined that this notice is not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, grants, benefits, and contracts (5 U.S.C. 553(a)(2)). Because notice and opportunity for comments are not required pursuant to U.S.C. 553 or any other law, the analytical requirements of the Regulatory Flexibility Act (5 U.S.C. 601 et seq.) are inapplicable. Therefore, a regulatory flexibility analysis is not required and none has been prepared.

Dated: November 14, 2007.
Mark E. Brown,
Chief Financial Officer, Oceanic and Atmospheric Research, National Oceanic and Atomspheric Administration.

[FR Doc. 07-5828 Filed 11-23-07; 8:45 am]

BILLING CODE 3510-KD-M